SOCIAL SECURITY ADMINISTRATION

[Docket No. SSA-2022-0001]

Privacy Act of 1974; Matching Program

AGENCY: Social Security Administration (SSA).

ACTION: Notice of a new matching program.

SUMMARY: In accordance with the provisions of the Privacy Act, as amended, this notice announces a new matching program with the United States Department of Health and Human Services, Office of Child Support Enforcement (OCSE). Under this matching program, OCSE will provide SSA with quarterly wage (QW) and unemployment insurance (UI) information located in the National Directory of New Hires (NDNH) to allow SSA to determine eligibility of applicants for Extra Help (low-income subsidy assistance) under the Medicare Prescription Drug, Improvement, and Modernization Act (MMA) of 2003. This agreement assists SSA in determining eligibility of applicants for Extra Help, redetermining eligibility of existing Extra Help beneficiaries during periodic screening, and administering the Extra Help program.

DATES: Submit comments on the proposed matching program on or before October 26, 2022. The matching program will be applicable on November 26, 2022, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2022-0001 so that we may associate your comments with the correct notice. CAUTION: You should be careful to include in your comments only information that you wish to make publicly available. We strongly urge you not to include in your comments any personal information, such as Social Security numbers or medical information.

1. Internet: We strongly recommend that you submit your comments via the internet. Please visit the Federal eRulemaking portal at http://www.regulations.gov. Use the Search function to find docket number SSA-2022-0001 and then submit your comments. The system will issue you a tracking number to confirm your submission. You will not be able to view your comment immediately because we must post each submission manually. It may take up to a week for your comments to be viewable.

2. Fax: Fax comments to (410) 966-0869.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at http://www.regulations.gov or in person, during regular business hours, by arranging with the contact person identified below.

FOR FURTHER INFORMATION CONTACT: Interested parties may submit general questions about the matching program to Stephanie Kiley, Acting Division Director, Office of Privacy and Disclosure, Office of the General Counsel, Social Security Administration, G-401 WHR, 6401 Security Boulevard, Baltimore, MD 21235-6401, at telephone: (410) 966-5855, or send an email to Stephanie.Kiley@ssa.gov.

SUPPLEMENTARY INFORMATION: None.

Matthew Ramsey,
Executive Director, Office of Privacy and Disclosure, Office of the General Counsel.

Participating Agencies: SSA and OCSE.

Authority for Conducting the Matching Program: This matching agreement between OCSE and SSA is executed pursuant to the Social Security Act (Act) and the Privacy Act of 1974, as amended. Subsection 453(j)(4) of the Act provides that OCSE shall provide the Commissioner of SSA with all information in the NDNH. 42 U.S.C. 653(j)(4). SSA has authority to use data to determine entitlement to and eligibility for programs it administers pursuant to sections 453(j)(4), 1631(e)(1)(B) and (f), and 1860D-14(a)(3) of the Act. 42 U.S.C. 653(j)(4), 1383(e)(1)(B) and (f), and 1395w-114(a)(3). Disclosures under this agreement shall be made in accordance with 5 U.S.C. 552a(b)(3), and in compliance with the matching procedures in 5 U.S.C. 552a(o), (p), and (r).

The Act provides that whether a Part D eligible individual residing in a state is eligible for subsidy, shall be determined under the state plan for medical assistance or by the Commissioner of Social Security. 42 U.S.C. 1395w-114(a)(3)(B)(i).

SSA has independent authority to collect this information regarding Medicare Parts A-D eligibility and premium calculations via sections 202-205, 223, 226, 228, 1611, 1631, 1818, 1836, 1839, 1840, and 1860D-1 to 1860D-15 of the Act (42 U.S.C. 402-405, 423, 426, 428, 1382, 1383, 1395i-2, 1395o, 1395r, 1395s, and 1395w-101 to 1395w-115).

Purpose(s): This computer matching agreement (agreement) governs a matching program between OCSE and SSA. OCSE will provide SSA with QW and UI information located in the NDNH to allow SSA to determine eligibility of applicants for Extra Help (low-income subsidy assistance) under the MMA of 2003 (Pub. L. 108-173) (Extra Help). This agreement also governs the use, treatment, and safeguarding of the information exchanged. OCSE is the “source agency” and SSA is the “recipient agency,” as defined by the Privacy Act. 5 U.S.C. 552a(a)(9) and (11).

This agreement assists SSA in (1) determining eligibility of applicants for Extra Help; (2) redetermining eligibility of existing Extra Help beneficiaries during periodic screening; and (3) administering the Extra Help program.

The Privacy Act provides that no record contained in a system of record (SOR) may be disclosed for use in a computer matching program, except pursuant to a written agreement containing specified provisions. 5 U.S.C. 552a(o). SSA and OCSE are executing this agreement to comply with the Privacy Act and the regulations and guidance promulgated thereunder. OCSE and SSA have been parties to matching agreements and recertifications for this purpose since April 1, 2005.

The SSA component responsible for this agreement and its contents is the Office of Privacy and Disclosure. The responsible component for OCSE is the Division of Federal Systems.

This agreement is applicable to personnel, facilities, and information systems of SSA and OCSE involved in the processing and storage of NDNH information. Personnel are defined as employees, contractors, or agents of OCSE and SSA.

Categories of Individuals: The individuals whose information is involved in this matching program are applicants and beneficiaries of Extra Help (low-income subsidy assistance).

Categories of Records: SSA will provide OCSE the following data elements electronically in the finder file:

• Client's Own Social Security Number (COSSN)

• Name

OCSE will provide electronically to SSA the following data elements from the NDNH QW file:

• QW record identifier

• For employees:

(1) Name (first, middle, last)

(2) SSN

(3) Verification request code

(4) Processed date

(5) Non-verifiable indicator

(6) Wage amount

(7) Reporting period

• For employers of individuals in the QW file of the NDNH:

(1) Name

(2) Employer identification number

(3) Address(es)

• Transmitter Agency Code

• Transmitter State Code

• State or Agency Name

OCSE will provide electronically to SSA the following data elements from the NDNH UI file:

• UI record identifier

• Processed date

• SSN

• Verification request code

• Name (first, middle, last)

• Address

• UI benefit amount

• Reporting period

• Transmitter Agency Code

• Transmitter State Code

• State or Agency Name

Data Elements SSA updates in the OCSE Financial Items (OCSEFITM) table if there is a match:

• QW record identifier

• For employees:

(1) Employee's SSN

(2) Employee's wage amount

(3) Reporting period

• For employers of individuals:

(1) Employer identification number

(2) Employer's name

• Unemployment Insurance identifier:

(1) Claimant SSN

(2) Unemployment insurance benefit amount

(3) Reporting period

(4) Transmitter State Name

System(s) of Records: SSA's SOR is the Medicare Database (MDB) file SOR, No. 60-0321, last fully published at 71 Federal Register (FR) 42159 (July 25, 2006), and amended at 72 FR 69723 (December 10, 2007), and 83 FR 54969 (November 1, 2018).

OCSE will match SSA's information in the MDB against the QW and UI information furnished by state and federal agencies maintained in its SOR, “OCSE National Directory of New Hires” (NDNH), No. 09-80-0381, published in the Federal Register on April 2, 2015 at 80 FR 17906 and amended at 83 FR 6591 (February 14, 2018), and 85 FR 546 (January 6, 2020).

[FR Doc. 2022-21526 Filed 10-3-22; 8:45 am]

BILLING CODE 4191-02-P